DEPARTMENT OF ENERGY

Office of Energy Efficiency and Renewable Energy

Notice of Request for Information on Photovoltaic Reliability and Durability Research and Development

AGENCY: Office of Energy Efficiency and Renewable Energy, Department of Energy.

ACTION: Request for Information (RFI).

SUMMARY: The Department of Energy (DOE) today gives notice of a request for information on photovoltaic reliability and durability research and development. Photovoltaic modules are exposed to severe operating conditions involving temperature, thermal cycling, UV radiation, humidity, environmental weathering and soiling, electrical and other stresses. It is necessary to address the risk and uncertainty in photovoltaic performance due to these conditions in order to enable greater investor confidence, which ultimately can lead to lower financing costs and greater volume of installations. The DOE SunShot Program therefore requests information to determine fruitful areas of research and development that could lead to improved reliability and durability of photovoltaic modules, with the purpose of creating increased appetite for photovoltaic projects for investors, developers, integrators, and utilities.

The RFI document is posted at: https://eere-exchange.energy.gov.

DATES: Comments regarding this RFI must be received by Monday, October 6, 2014.

ADDRESSES: U.S. Department of Energy, 1000 Independence Ave., Washington, DC 20585, Attn: Marie Mapes.

The RFI document is posted at: https://eere-exchange.energy.gov.

FOR FURTHER INFORMATION CONTACT: Questions may be directed to—Marie Mapes at 202-586-3765 or by email at marie.mapes@ee.doe.gov.

SUPPLEMENTARY INFORMATION: The DOE SunShot Program currently believes that research is needed to establish correlation between photovoltaic module degradation mechanisms and module lifetime. The goal would be to correlate degradation mechanisms to basic material and device properties to develop early indicators and advanced predictive testing with physics based acceleration factors. Furthermore, degradation models validated by laboratory experimental data and correlations to field data from installed modules need to be developed to provide confidence in accelerated test conditions. The purpose of this RFI is to solicit feedback from industry, academia, research laboratories, government agencies, and other stakeholders on issues related to photovoltaic reliability and durability research and development. The SunShot Program has identified a list of Questions and a list of Potential Topic Areas of Interest for comment. Feedback from respondents in these two sections will inform future programmatic activity in the area of photovoltaic module reliability and durability research and development.

The RFI document is posted at: https://eere-exchange.energy.gov.

Issued in Washington, DC, on August 28th, 2014.
Marie Mapes,
Acting Program Manager.

[FR Doc. 2014-21696 Filed 9-10-14; 8:45 am]

BILLING CODE 6450-01-P